OFFICE OF PERSONNEL MANAGEMENT

5 CFR Parts 213, 250, 293, 294, 300, 315, 316, 332, 339, 351, 352, 534, 550, 720, 732, 831, 837, 841, 930, and 960

RIN 3206-AJ54

Miscellaneous Changes in Office of Personnel Management's Regulations

AGENCY: Office of Personnel Management.

ACTION: Final rule; technical amendment.

SUMMARY: The Office of Personnel Management is issuing a final rule to remove all references to the Federal Personnel Manual (FPM). With the abolishment of the FPM, these references are no longer in effect. This action does not make any substantive changes to the affected rules.

DATES: This rule is effective December 27, 2001.

FOR FURTHER INFORMATION CONTACT: Richard B. Lowe, (202) 606-1000.

SUPPLEMENTARY INFORMATION: Pursuant to 5 U.S.C. 553(b)(3)(B) and (d)(3), good cause exists for publishing this amendment without a notice of proposed rulemaking and a 30-day delay in effectiveness. This amendment is non-substantive and will not affect current compliance.

Regulatory Flexibility Act

I certify that these regulations will not have a significant economic impact on a substantial number of small entities because they will affect only Federal agencies and employees.

List of Subjects in 5 CFR Parts 213, 250, 293, 294, 300, 315, 316, 332, 339, 351, 352, 534, 550, 720, 732, 831, 837, 841, 930, and 960

Administrative practice and procedure, Air traffic controllers, Alimony, Archives and records, Authority delegations (Government agencies), Claims, Computer technology, Disability benefits, Equal employment opportunity, Firefighters, Freedom of information, Government employees, Health records, Hospitals, Income taxes, Individuals with disabilities, Intergovernmental relations, Law enforcement officers, Motor vehicles, National defense, Organization and functions (Government agencies), Pensions, Reporting and recordkeeping requirements, Wages.

Office of Personnel Management.
Kay Coles James,
Director.

Accordingly, OPM is amending parts 213, 250, 293, 294, 300, 315, 316, 332, 339, 351, 352, 534, 550, 720, 732, 831, 837, 841, 930, and 960 of title 5 of the Code of Federal Regulations as follows:

PART 213—EXCEPTED SERVICE

1. The authority citation for part 213 continues to read as follows:

Authority: 5 U.S.C. 3301 and 3302, E.O. 10577, 3 CFR 1954-1958 Comp., p. 218; Sec. 213.101 also issued under 5 U.S.C. 2103; Sec. 213.3102 also issued under 5 U.S.C. 3301, 3302, 3307, 8337(h) and 8456; E.O. 12364, 47 FR 22931, 3 CFR 1982 Comp., p. 185; 38 U.S.C. 4301 et seq.; Pub. L. 105-339, 112 STAT. 3182-83; and E.O. 13162.

§ 213.3102 [Amended]

2. In § 213.3102, paragraph (t) is amended by removing “in accordance with the guidance in Federal Personnel Manual Chapter 306” and by adding the verbatim language from the Federal Personnel Manual “who have been certified by state vocational rehabilitation agencies as likely to succeed” in its place, paragraph (ii) is amended by removing “published in the Federal Personnel Manual” and by adding “prescribed in OPM issuances” in its place.

PART 250—PERSONNEL MANAGEMENT IN AGENCIES

3. The authority citation for part 250 continues to read as follows:

Authority: 5 U.S.C. 1101 note, 1104, 1302, 3301, 3302; E.O. 10577, 12 FR 1259, 3 CFR, 1954-1958 Comp., p. 218.

§ 250.101 [Amended]

4. Section 250.101 is amended by removing “Federal Personnel Manual” and by adding “Guide to Processing Personnel Actions” in its place and by removing “Federal Personnel Manual Chapter 296” and adding “the Guide to Processing Personnel Actions” in its place.

§ 250.103 [Amended]

5. Section 250.103 is amended by removing “in the Federal Personnel Manual”.

PART 293—PERSONNEL RECORDS

6. The authority citation for part 293 continues to read as follows:

Authority: 5 U.S.C. 1104; 5 U.S.C. Chap 7; 5 U.S.C. 7135; 5 U.S.C. 7301; and E. O. 11491.

§ 293.103 [Amended]

7. In § 293.103, paragraph (b) is amended by removing both occurrences of “Federal Personnel Manual” and by adding “Guide to Personnel Recordkeeping” in their place.

§ 293.302 [Amended]

8. Section 293.302 is amended by removing “Federal Personnel Manual” and by adding “Guide to Personnel Recordkeeping” in its place.

§ 293.306 [Amended]

9. In § 293.306, paragraph (b)(3) is amended by removing “FPM Supplement 293-31” and by adding “the Guide to Personnel Recordkeeping” in its place.

§ 293.309 [Amended]

10. Section 293.309 is amended by removing “Federal Personnel Manual” and by adding “Guide to Personnel Recordkeeping” in its place.

§ 293.405 [Amended]

11. In § 293.405, paragraph (a) is amended by removing “FPM Supplement 293-31” and by adding “the Guide to Personnel Recordkeeping” in its place.

§ 293.504 [Amended]

12. In § 293.504, paragraph (a) is amended by removing “FPM” and by adding “OPM” in its place.

PART 294—AVAILABILITY OF OFFICIAL INFORMATION

13. The authority citation for part 294 continues to read as follows:

Authority: 5 U.S.C. 552, Freedom of Information Act, Pub. L. 92-502, as amended by the Freedom of Information Reform Act of 1936, Pub. L. 99-570, and E.O. 12600, 52 FR 23781 (June 25, 1987).

§ 294.106 [Amended]

14. In § 294.106, the heading is amended by removing “FPM” and adding “OPM” in its place, and by removing “and addendum”, and paragraphs (a)(1) and (d) are amended by removing “FPM”.

§ 294.301 [Amended]

15. In § 294.301, paragraph (a) is amended by removing “Federal Personnel Manual or the”.

PART 300—EMPLOYMENT (GENERAL)

16. The authority citation for part 300 continues to read as follows:

Authority: 5 U.S.C. 552, 3301, and 3302; E.O. 10577, 3 CFR 1954-1958 Comp., page 218, unless otherwise noted.

Secs. 300.101 through 300.104 also issued under 5 U.S.C. 7201, 7204, and 7701; E.O. 11478, 3 CFR 1966-1970 Comp., page 803.

Secs. 300.401 through 300.408 also issued under 5 U.S.C. 1302 (c), 2301, and 2302.

Secs. 300.501 through 300.507 also issued under 5 U.S.C. 1103 (a)(5).

Secs. 300.603 also issued under 5 U.S.C. 1104.

§ 300.501 [Amended]

17. In § 300.501, paragraph (c) is amended by removing “chapter 630 of the Federal Personnel Manual” and by adding “OPM issuances” in its place.

§ 300.503 [Amended]

18. In § 300.503, paragraph (b) is amended by removing “in chapter 316 of the Federal Personnel Manual” and by adding “found in 5 CFR part 316” in its place.

§ 300.603 [Amended]

19. In § 300.603, paragraph (b)(6) is amended by removing “chapter 338 of the Federal Personnel Manual” and by adding “OPM's operating manuals” in its place.

PART 315—CAREER AND CAREER-CONDITIONAL EMPLOYMENT

20. The authority citation for part 315 continues to read as follows:

Authority: 5 U.S.C. 1302, 3301, and 3302; E.O. 10577. 3 CFR, 1954-1958 Comp. P. 218, unless otherwise noted; and E.O. 13162. Secs. 315.601 and 315.609 also issued under 22 U.S.C. 3651 and 3652. Secs. 315.602 and 315.604 also issued under 5 U.S.C. 1104. Sec. 315.603 also issued under 5 U.S.C. 8151. Sec. 315.605 also issued under E.O. 120034, 3 CFR, 1978 Comp. p. 11. Sec. 315.606 also issued under E.O. 11219, 3 CFR, 1964-1965 Comp. p. 303. Sec 315.607 also issued under 22 U.S.C. 2506. Sec. 315.608 also issued under E.O. 12721, 3 CFR, 1990 Comp. p. 293. Sec 315.610 also issued under 5 U.S.C. 3304(d). Sec. 315.611 also issued under Section 511, Pub. L. 106-117, 113 STAT, 1575-76. Sec 315.710 also issued under E.O. 12108, 3 CFR, 1978 Comp., p. 264.

§ 315.603 [Amended]

21. In § 315.603, paragraphs (a)(1)(iv), (a)(2)(ii), (a)(3)(iv) are amended by removing “by a provision of the Federal Personnel Manual”.

§ 315.606 [Amended]

22. Section 315.606 is amended by removing “in the Federal Personnel Manual”.

§ 315.701 [Amended]

23. In § 315.701, paragraph (a)(2) is amended by removing “by a provision of the Federal Personnel Manual”.

§ 315.704 [Amended]

24. In § 315.704, paragraph (b)(2) is amended by removing “the Federal Personnel Manual” and by adding “its operating manuals” in its place.

§ 315.707 [Amended]

25. In § 315.707, paragraph (a)(1) is amended by removing “in the Federal Personnel Manual”.

§ 315.710 [Amended]

26. In § 315.710, paragraph (a) is amended by removing “in the Federal Personnel Manual”.

PART 316—TEMPORARY AND TERM EMPLOYMENT

27. The authority citation for part 316 continues to read as follows:

Authority: 5 U.S.C. 3301, 3302; E.O. 10577, 3 CFR, 1954-1958 Comp., p. 218.

§ 316.403 [Amended]

28. In § 316.403, paragraph (a)(3) is amended by removing “in the Federal Personnel Manual”.

PART 332—RECRUITMENT AND SELECTION THROUGH COMPETITIVE EXAMINATION

29. The authority citation for part 332 continues to read as follows:

Authority: 5 U.S.C. 1302, 3301, 3302; E.O. 10577, 3 CFR, 1954-1958 Comp., p. 218.

§ 332.301 [Amended]

30. In § 332.301, paragraph (b) is amended by removing “in the Federal Personnel Manual”.

§ 332.312 [Amended]

31. Section 332.312, introductory paragraph, is amended by removing “the Federal Personnel Manual” and by adding “its operating manuals” in its place.

§ 332.406 [Amended]

32. In § 332.406, paragraph (e) is amended by removing “the Federal Personnel Manual” and by adding “its operating manuals” in its place.

PART 339—MEDICAL QUALIFICATION DETERMINATIONS

33. The authority citation for part 339 continues to read as follows:

Authority: 5 U.S.C. 3301, 3302, 5112, E.O. 9830, February 24, 1947.

§ 339.202 [Amended]

34. In § 339.202, paragraph (b) is amended by removing the comma and “and” and adding a period after “position” and by removing paragraph (c).

PART 351—REDUCTION IN FORCE

35. The authority citation for part 351 continues to read as follows:

Authority: 5 U.S.C. 1302, 3502, 3503; sec. 351.801 also issued under E.O. 12828, 58 FR 2965.

§ 351.205 [Amended]

36. Section 351.205 is amended by removing “through the Federal Personnel Manual system”.

PART 352—REEMPLOYMENT RIGHTS

Subpart C—Details and Transfer of Federal Employees to International Organizations

37. The authority citation for subpart C continues to read as follows:

Authority: 5 U.S.C. 3584, E.O. 11552, 3 CFR 1966-1970 Comp., p. 954; Section 352.313 also issued under 5 U.S.C. 7701, et seq.

§ 352.304 [Amended]

38. Section 352.304 is amended by removing both occurrences of “in the Federal Personnel Manual”.

§ 352.310 [Amended]

39. In § 352.310, paragraph (c) is amended by removing “the Federal Personnel Manual” and by adding “OPM issuances” in its place.

PART 534—PAY UNDER OTHER SYSTEMS

40. The authority citation for part 534 continues to read as follows:

Authority: 5 U.S.C. 1104, 5307, 5351, 5352, 5353, 5376, 5383, 5384, 5385, 5541, and 5550a.

§ 534.503 [Amended]

41. In § 534.503, paragraph (a) is amended by removing “and the Federal Personnel Manual”, by removing the comma and adding “and” after “law”, and by removing the comma after “regulations”.

PART 550—PAY ADMINISTRATION (GENERAL)

Subpart E—Pay From More Than One Position

42. The authority citation for part 550 subpart E continues to read as follows:

Authority: 5 U.S.C. 5533.

§ 550.504 [Amended]

43. In § 550.504, paragraph (b) is amended by removing “in the Federal Personnel Manual”.

PART 720—AFFIRMATIVE EMPLOYMENT PROGRAMS

Subpart C—Disabled Veterans Affirmative Action Program

44. The authority citation for part 720, subpart C continues to read as follows:

Authority: 5 U.S.C. 7201; 42 U.S.C. 2000e; 38 U.S.C. 101(2), 2001(3), 2014; 5 U.S.C. 3112; 29 U.S.C. 791(b).

§ 720.306 [Amended]

45. In § 720.306, paragraph (b) is amended by removing “through the Federal Personnel Manual (FPM)” and the comma after “veterans”.

PART 732—NATIONAL SECURITY POSITIONS

46. The authority citation for part 732 continues to read as follows:

Authority: 5 U.S.C. 3301, 3302, 7312; 50 U.S.C. 403; E.O. 10450, 3 CFR, 1949-1953 Comp., p. 936.

§ 732.102 [Amended]

47. In § 732.102, paragraph (a) is amended by removing “FPM chapter 732 and related” and adding “OPM” in its place.

§ 732.201 [Amended]

48. In § 732.201, paragraph (b) is amended by removing “FPM chapter 732” and adding “OPM issuances” in its place.

§ 732.301 [Amended]

49. In § 732.301, paragraph (e) is amended by removing “the Federal Personnel Manual and related” and adding “its” in its place.

PART 831—RETIREMENT

50. The authority citation for part 831 continues to read as follows:

Authority: 5 U.S.C. 8347; Sec. 831.102 also issued under 5 U.S.C. 8334; Sec. 831.106 also issued under 5 U.S.C. 552a; Sec. 831.108 also issued under 5 U.S.C. 8336(d)(2); Sec. 831.114 also issued under 5 U.S.C. 8336(d)(2) and section 7001 of Pub. L. 105-174, 112 Stat. 58; Sec. 831.201(b)(1) also issued under 5 U.S.C. 8347(g); Sec. 831.201(b)(6) also issued under 5 U.S.C. 7701(b)(2); Sec. 831.201(g) also issued under sections 11202(f), 11232(e), and 11246(b) of Pub. L. 105-33, 111 Stat. 251; Sec. 831.201(g) also issued under sections 7(b) and 7(e) of Pub. L. 105-274, 112 Stat. 2419; Sec. 831.201(i) also issued under sections 3 and 7(c) of Pub. L. 105-274, 112 Stat. 2419; Sec. 831.204 also issued under section 102(e) of Pub. L. 104-8, 109 Stat. 102, as amended by section 153 of Pub. L. 104-134, 110 Stat. 1321; Sec. 831.205 also issued under section 2207 of Pub. L. 106-265, 114 Stat. 784; Sec. 831.301 also issued under section 2203 of Pub. L. 106-265, 114 Stat. 780; Sec. 831.303 also issued under 5 U.S.C. 8334(d)(2) and section 2203 of Pub. L. 106-235, 114 Stat. 780; Sec. 831.502 also issued under 5 U.S.C. 8337; Sec. 831.502 also issued under section 1(3), E.O. 11228, 3 CFR 1964-1965 Comp. p. 317; Sec. 831.663 also issued under 5 U.S.C. 8339(j) and (k)(2); Secs. 831.663 and 831.664 also issued under section 11004(c)(2) of Pub. L. 103-66, 107 Stat. 412; Sec. 831.682 also issued under section 201(d) of Pub. L. 99-251, 100 Stat. 23; Sec. 831.912 also issued under section 636 of H.R. 5658, incorporated by reference in Pub. L. 106-554, 114 Stat. 2763, and published as Appendix C to Pub. L. 106-554 at 114 Stat. 2763A-125; subpart V also issued under 5 U.S.C. 8343a and section 6001 of Pub. L. 100-203, 101 Stat. 1330-275; Sec. 831.2203 also issued under section 7001(a)(4) of Pub. L. 101-508, 104 Stat. 1388-328.

Subpart A—Administration and General Provisions

§ 831.102 [Amended]

51. Section 831.102 is amended by removing “in Federal Personnel Manual Supplement 831-1” and adding in its place “by OPM issuances.”

§ 831.111 [Amended]

52. In section 831.111 paragraph (a) and (b)(2) are amended by removing “in the Federal Personnel Manual”.

Subpart F—Survivor Annuities

§ 831.613 [Amended]

53. In § 831.613, paragraph (d) is amended by removing “through the Federal Personnel Manual system or other issuances”.

Subpart S—State Income Tax Withholding

§ 831.1907 [Amended]

54. Remove § 831.1907.

Subpart U—Deposits for Military Service

§ 831.2103 [Amended]

55. In § 831.2103, amend the definition for Sufficient evidence, by removing “Federal Personnel Manual”.

§ 831.2106 [Amended]

56. In § 831.2106, paragraph (c) is amended by removing “in the Federal Personnel Manual” .

§ 831.2107 [Amended]

57. In § 831.2107 paragraph (a)(5) is amended by removing “in the Federal Personnel Manual” and by adding in its place “by OPM issuances.”

PART 837—REEMPLOYMENT OF ANNUITANTS

58. The authority citation for part 837 continues to read as follows:

Authority: 5 U.S.C. 8337, 8344, 8347, 8455, 8456, 8461, and 8468; and sec. 302, Pub. L. 99-335, 100 Stat. 514, as amended by Title I, sec. 134(a), Pub. L. 100-238, 101 Stat. 1762; Title V, sec. 529 [Title I, sec. 108(c)], Pub. L. 101-509, 104 Stat. 1427, 1450; Div. A, Title XII, sec. 1206(j)(3), Pub. L. 101-510, 104 Stat. 1664; Div. A., Title VI, sec. 655(c), Pub. L. 102--190, 105 Stat. 1392; sec. 8(a), Pub. L. 102-378, 106 Stat. 1359.

§ 837.304 [Amended]

59. Section 837.304, paragraphs (a), (b), and (c) are amended by removing “in the Federal Personnel Manual”.

PART 841—FEDERAL EMPLOYEES’ RETIREMENT SYSTEM—GENERAL ADMINISTRATION

60. The authority citation for part 841 continues to read as follows:

Authority: 5 U.S.C. 8461; Sec. 841.108 also issued under 5 U.S.C. 552a; subpart D also issued under 5 U.S.C. 8423; Sec. 841.504 also issued under 5 U.S.C. 8422; Sec. 841.507 also issued under section 505 of Pub. L. 99-335; subpart J also issued under 5 U.S.C. 8469; Sec. 841.506 also issued under 5 U.S.C. 7701(b)(2); Sec. 841.508 also issued under section 505 of Pub. L. 99-335; Sec. 841.604 also issued under Title II, Pub. L. 106-265, 114 Stat. 780.

§ 841.1008 [Amended]

61. Remove § 841.1008.

PART 930—PROGRAMS FOR SPECIFIC POSITIONS AND EXAMINATIONS (MISCELLANEOUS)

62. The authority citation for part 930 continues to read as follows:

Authority: 5 U.S.C. 3301, 3320, 7301; 40 U.S.C. 491; E.O. 10577, 3 CFR, 1954-1958 Comp., p. 218 E.O. 11222, 3 CFR, 1964-1965 Comp., p. 306. (Separate authority is listed under § 930.107)

§ 930.110 [Amended]

63. Section 930.110 is amended by removing “and the Federal Personnel Manual”.

§ 930.115 [Amended]

64. Section 930.115 is amended by removing “or the Federal Personnel Manual”.

PART 960—FEDERAL EXECUTIVE BOARDS

65. The authority citation for part 960 continues to read as follows:

Authority: Memorandum of the President for Heads of Departments and Agencies (November 10, 1961).

§ 960.108 [Amended]

66. In § 960.108, remove “through the Federal Personnel Manual System and other appropriate instruments”.

[FR Doc. 01-31353 Filed 12-26-01; 8:45 am]

BILLING CODE 6325-46-P